DEPARTMENT OF TRANSPORTATION

Bureau of Transportation Statistics

Research and Innovative Technology Administration Advisory Council on Transportation Statistics; Notice of Meeting

AGENCY: Research and Innovative Technology Administration, U.S. Department of Transportation.

ACTION: Notice.

This notice announces, pursuant to Section 10(a)(2) of the Federal Advisory Committee Act (FACA) (Pub. L. 72-363; 5 U.S.C. app. 2), a meeting of the Advisory Council on Transportation Statistics (ACTS). The meeting will be held on Friday, June 4, 2010, from 9 a.m. to 5 p.m. EST in the Oklahoma City Room at the U.S. Department of Transportation, 1200 New Jersey Ave., SE. Washington, DC.

Section 5601(o) of the Safe, Accountable, Flexible, Efficient Transportation Equity Act: A Legacy for Users (SAFETEA-LU) directs the U.S. Department of Transportation to establish an Advisory Council on Transportation Statistics subject to the Federal Advisory Committee Act (5 U.S.C., App.2) to advise the Director of BTS on the quality, reliability, consistency, objectivity, and relevance of transportation statistics and analyses collected, supported, or disseminated by the Bureau and the Department.

The following is a summary of the draft meeting agenda: (1) USDOT Welcome and introduction of council members; (2) Overview of prior meeting; (3) Advisory Council Members Interest Areas; and (4) Council Members review and discussion of statistical programs. Participation is open to the public. Members of the public who wish to participate must notify Tonya Tinsley at tonya.tinsley@dot.gov, not later than May 25, 2010. Members of the public may present oral statements at the meeting with the approval of Steven D. Dillingham, Director of the Bureau of Transportation Statistics. Non-committee members wishing to present oral statements or obtain information should contact Ms. Tinsley via e-mail no later than May 30, 2010.

Questions about the agenda or written comments may be e-mailed or submitted by U.S. Mail to: U.S. Department of Transportation, Research and Innovative Technology Administration, Bureau of Transportation Statistics, Attention: Tonya Tinsley, 1200 New Jersey Avenue, SE., Room # E34-403, Washington, DC 20590, tonya.tinsley@dot.gov or faxed to (202) 366-3640. BTS requests that written comments be received by June 1, 2010.

Notice of this meeting is provided in accordance with the FACA and the General Services Administration regulations (41 CFR part 102-3) covering management of Federal advisory committees.

Issued in Washington, DC, on the 28 day of April 2010.
Steven D. Dillingham,
Director, Bureau of Transportation Statistics.

[FR Doc. 2010-10508 Filed 5-4-10; 8:45 am]

BILLING CODE 4910-HY-P